DEPARTMENT OF HEALTH AND HUMAN SERVICES

[Document Identifier: OS-0990-0479]

Agency Information Collection Request 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before December 30, 2024.

ADDRESSES: Submit your comments to Sherrette.Funn@hhs.gov or by calling (202) 264-0041 and PRA@HHS.GOV.

FOR FURTHER INFORMATION CONTACT: When submitting comments or requesting information, please include the document identifier 0990-0479-60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Family Planning Annual Report 2.0.

Type of Collection: Renewal.

OMB No.: 0990-0479.

Abstract: The Office of Population Affairs (OPA), within the Office of the Assistant Secretary for Health, seeks approval for their encounter level data collection for the Family Planning Annual Report (FPAR). This was previously approved by OMB under OMB No. 0990-0479, (expiration February 28, 2025). Annual submission of the FPAR is required of all Title X Family Planning Services grantees for purposes of monitoring and reporting program performance. Additionally, the FPAR 2.0 system will collect clinic location and service data in the Family Planning Clinic Locator Database (CLDB) for the purpose of informing the community of the availability of services.

Need and Proposed Use of the Information

The Office of Population Affairs' (OPA) Title X Family Planning Program is the only federal grant program dedicated solely to providing comprehensive family planning and related preventive health services. The FPAR is the only source of annual, uniform reporting by all Title X services grantees funded under Section 300 of the Public Health Service Act. The FPAR 2.0 system provides consistent, national-level data on the Title X Family Planning program and its users. OPA will assemble and analyze comparable and relevant program data to answer questions about the characteristics of the population served, the provision and use of services, and the impact of the program on certain family planning outcomes. FPAR 2.0 will collect a standard set of data elements pertaining to users and encounters, such as user demographics, service delivery, family planning intentions and methods, and also data regarding clinic locations and services provided. Several external (federal and non-federal) websites link to the CLDB to provide quick access to Title X clinic locations.

Encounter level data collected through FPAR 2.0 will ultimately improve the quality of data reported to OPA and reduce reporting burden by grantees. Additionally, the more granular data collected with FPAR 2.0 will help contribute to a learning healthcare environment by greatly expanding the options for data analysis and reporting—for example, through interactive data dashboards and visualizations, customized tabulations and reports, and application of analytics and statistical analyses on the encounter-level data files.

Information from FPAR 2.0 is important to OPA for many reasons, and will be used to:

(1) Monitor compliance with statutory requirements, regulations, and operational guidance.

(2) Comply with accountability and federal performance requirements for Title X family planning funds.

(3) Guide strategic and financial planning, to monitor performance, to respond to inquiries from policymakers and Congress about the program, and to estimate program impact.

Type of respondent: Annual reporting; respondents are all grantees that receive Title X funding from OPA.

Annualized Burden Hour Table
Forms (if necessary) | Respondents (if necessary) | Number of respondents | Number of responses per respondents | Average burden per response | Total burden hours
FPAR 2.0 | Grantees | 88 | 1 | 76.5 | 6732
Total |  |  | 1 |  | 6732

Sherrette A. Funn,
Paperwork Reduction Act Reports Clearance Officer, Office of the Secretary.

[FR Doc. 2024-25332 Filed 10-30-24; 8:45 am]

BILLING CODE 4150-32-P